DEPARTMENT OF COMMERCE

Foreign-Trade Zones Board

[B-46-2023]

Foreign-Trade Zone (FTZ) 168; Authorization of Production Activity; Samsung Electronics America, Inc.; (Stylus for Mobile Phones and Tablets); Coppell, Texas

On July 19, 2023, the Metroplex International Trade Development Corporation, grantee of FTZ 168, submitted a notification of proposed production activity to the FTZ Board on behalf of Samsung Electronics America, Inc., within Subzone 168D, in Coppell, Texas.

The notification was processed in accordance with the regulations of the FTZ Board (15 CFR part 400), including notice in the Federal Register inviting public comment (88 FR 47846, July 25, 2023). On November 16, 2023, the applicant was notified of the FTZ Board's decision that no further review of the activity is warranted at this time. The production activity described in the notification was authorized, subject to the FTZ Act and the FTZ Board's regulations, including section 400.14.

Dated: November 16, 2023.
Elizabeth Whiteman,
Executive Secretary.

[FR Doc. 2023-25730 Filed 11-20-23; 8:45 am]

BILLING CODE 3510-DS-P